DEPARTMENT OF LABOR

Employment and Training Administration

[TA-W-37,789]

Art Craft Optical Company, Inc., Rochester, New York; Notice of Termination of Investigation

Pursuant to section 221 of the Trade Act of 1974, an investigation was initiated on June 19, 2000, in response to a petition filed on the same date on behalf of workers at Art Craft Optical Company, Rochester, New York.

The company official who filed the petition has requested that the petition be withdrawn. Consequently, further investigation in this case would serve no purpose, and the investigation has been terminated.

Signed in Washington, DC, this 19th day of June, 2000.
Grant D. Beale,
Program Manager, Division of Trade Adjustment Assistance.

[FR Doc. 00-17308 Filed 7-7-00; 8:45 am]

BILLING CODE 4510-30-M